DEPARTMENT OF HEALTH AND HUMAN SERVICES

National Institutes of Health

National Heart, Lung, and Blood Institute; Cancellation of Meeting

Notice is hereby given of the cancellation of the National Heart, Lung, and Blood Institute Special Emphasis Panel, May 17, 2000, 2:30 p.m. to May 17, 2000, 3:30 p.m., NIH, Rockledge II, Bethesda, MD, 20892 which was published in the Federal Register on April 26, 2000, 65 FR 24491-24492.

The meeting is cancelled due to the fact that a review meeting is no longer required.

Dated: May 12, 2000.
LeVerne Y. Stringfield,
Director, Office of Federal Advisory Committee Policy.

[FR Doc. 00-12906 Filed 5-22-00; 8:45 am]

BILLING CODE 4140-01-M